DEPARTMENT OF TRANSPORTATION

Federal Aviation Administration

Notice of Opportunity for Public Comment on Surplus Property Release at Huntsville International Airport, Huntsville, AL

AGENCY: Federal Aviation Administration (FAA), DOT.

ACTION: Notice of intent to rule on land release request.

SUMMARY: Under the provisions of Title 49, U.S.C. 47153(c), notice is being given that the FAA is considering a request from the Huntsville-Madison County Airport Authority to waive the requirement that a 4.58-acre parcel of surplus property, located at the Huntsville International Airport, be used for aeronautical purposes.

DATES: Comments must be received on or before August 28, 2013.

ADDRESSES: Comments on this notice may be mailed or delivered in triplicate to the FAA at the following address: Jackson Airports District Office, 100 West Cross Street, Suite B, Jackson, MS 39208-2307.

In addition, one copy of any comments submitted to the FAA must be mailed or delivered to Mr. Luther H. Roberts, Jr., Deputy Director at the following address: Huntsville-Madison County Airport Authority, 1000 Glenn Hearn Boulevard, Huntsville, AL 35824

FOR FURTHER INFORMATION CONTACT: Roderick T. Nicholson, Program Manager, Jackson Airports District Office, 100 West Cross Street, Suite B, Jackson, MS 39208-2307, (601)664-9884. The land release request may be reviewed in person at this same location.

SUPPLEMENTARY INFORMATION: The FAA is reviewing a request by the Huntsville-Madison County Airport Authority to release 4.58 acres of surplus property at the Huntsville International Airport. The property will be purchased by the Alabama Department of Transportation (ALDOT), which is a state transportation organization. The property released will be used for the interchange project off Interstate Route 565. The net proceeds from the sale of this property will be used for FAA approved airport purposes.

Any person may inspect the request in person at the FAA office listed above under FOR FURTHER INFORMATION CONTACT.

In addition, any person may, upon request, inspect the request, notice and other documents germane to the request in person at the office of the Huntsville-Madison County Airport Authority.

Issued in Jackson, Mississippi on July 19, 2013.
Rans D. Black,
Manager, Jackson Airports District Office, Southern Region.

[FR Doc. 2013-18131 Filed 7-26-13; 8:45 am]

BILLING CODE 4910-13-P